DEPARTMENT OF HOMELAND SECURITY

U.S. Customs and Border Protection

[1651-0022]

Agency Information Collection Activities: Entry Summary

AGENCY: U.S. Customs and Border Protection (CBP), Department of Homeland Security.

ACTION: 30-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies. Comments are encouraged and will be accepted (no later than September 28, 2017) to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional PRA information should be directed to the CBP Paperwork Reduction Act Officer, U.S. Customs and Border Protection, Office of Trade, Regulations and Rulings, Economic Impact Analysis Branch, 90 K Street NE., 10th Floor, Washington, DC 20229-1177, or via email CBP_PRA@cbp.dhs.gov. Please note that the contact information provided here is solely for questions regarding this notice. Individuals seeking information about other CBP programs should contact the CBP National Customer Service Center at 877-227-5511, (TTY) 1-800-877-8339, or CBP Web site at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (82 FR 28506) on June 22, 2017, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Entry Summary.

OMB Number: 1651-0022.

Form Number: 7501, 7501A.

Current Actions: This submission is being made to extend the expiration date of this information collection with a decrease in burden hours due to increased automation. There is no change to the information collected on Form 7501 or 7501A.

Type of Review: Extension (without change).

Abstract: CBP Form 7501, Entry Summary, is used to identify merchandise entering the commerce of the United States, and to document the amount of duty and/or tax paid. CBP Form 7501 is submitted by the importer, or the importer's agent, for each import transaction. The data on this form is used by CBP as a record of the import transaction; to collect the proper duty, taxes, certifications and enforcement information; and to provide data to the U.S. Census Bureau for statistical purposes. CBP Form 7501 must be filed within 10 working days from the time of entry of merchandise into the United States.

CBP Form 7501A, Document/Payment Transmittal, is used to reconcile a supplemental payment after an initial Automated Clearinghouse payment with the associated entry so the respondent's account is properly credited.

Collection of the data on these forms is authorized by 19 U.S.C. 1484 and provided for by 19 CFR 142.11 and CFR 141.61. CBP Form 7501 and accompanying instructions can be found at http://www.cbp.gov/newsroom/publications/forms.

Affected Public: Businesses.

CBP Form 7501—Formal Entries (Electronic Submission)

Estimated Number of Respondents: 2,336.

Estimated Number of Responses per Respondent: 9,903.

Estimated Total Annual Responses: 23,133,408.

Estimated Time per Response: 5 minutes.

Estimated Total Annual Burden Hours: 1,920,072.86.

CBP Form 7501—Formal Entries (Paper Submission)

Estimated Number of Respondents: 28.

Estimated Number of Responses per Respondents: 9,903.

Estimated Total Annual Responses: 277,284.

Estimated Time per Response: 20 minutes.

Estimated Total Annual Burden Hours: 92,335.57.

CBP Form 7501—Formal Entries With Softwood Lumber Act

Estimated Number of Respondents: 210.

Estimated Number of Responses per Respondent: 1,905.

Estimated Total Annual Responses: 400,050.

Estimated Time per Response: 40 minutes.

Estimated Total Annual Burden Hours: 266,433.

CBP Form 7501—Informal Entries (Electronic Submission)

Estimated Number of Respondents: 1,883.

Estimated Number of Responses per Respondent: 2,582.

Estimated Total Annual Responses: 4,861,906.

Estimated Time per Response: 5 minutes.

Estimated Total Annual Burden Hours: 403,538.20.

CBP Form 7501—Informal Entries (Paper Submission)

Estimated Number of Respondents: 19.

Estimated Number of Responses per Respondent: 2,582.

Estimated Total Annual Responses: 49,058.

Estimated Time per Response: 15 minutes.

Estimated Total Annual Burden Hours: 12,264.5.

CBP Form 7501A—Document/Payment Transmittal

Estimated Number of Respondents: 20.

Estimated Number of Responses per Respondent: 60.

Estimated Total Annual Responses: 1,200.

Estimated Time per Response: 15 minutes.

Estimated Total Annual Burden Hours: 300.

Dated: August 24, 2017.
Seth Renkema,
Branch Chief, Economic Impact Analysis Branch, U.S. Customs and Border Protection.

[FR Doc. 2017-18256 Filed 8-28-17; 8:45 am]

BILLING CODE 9111-14-P